DEPARTMENT OF ENERGY

Federal Energy Regulatory Commission

Notice of Effectiveness of Exempt Wholesale Generator Status

Thermo Cogeneration Partnership, L.P | EG19-179-000
Peyton Creek Wind Farm, LLC | EG19-180-000
SR Hazlehurst III, LLC | EG19-181-000
Blue Summit III Wind, LLC | EG19-182-000
Airport Solar LLC | EG19-183-000
Heart of Texas Wind, LLC | EG19-184-000
Isabella Wind, LLC | EG19-185-000
224WB 8me LLC | EG19-186-000
Bronco Plains Wind, LLC | EG19-187-000
Poseidon Wind, LLC | EG19-188-000
Bearkat Wind Energy II LLC | EG19-189-000
Camilla Solar Energy LLC | EG19-190-000
Tenaska Clear Creek Wind, LLC | EG19-191-000

Take notice that during the month of November, 2019, the status of the above-captioned entities as Exempt Wholesale Generators became effective by operation of the Commission's regulations. 18 CFR 366.7(a) (2019).

Dated: December 6, 2019.
Nathaniel J. Davis, Sr.,
Deputy Secretary.

[FR Doc. 2019-26760 Filed 12-11-19; 8:45 am]

BILLING CODE 6717-01-P